DEPARTMENT OF THE TREASURY

Submission for OMB Review; Comment Request

August 20, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before September 26, 2008 to be assured of consideration.

Internal Revenue Service (IRS)

OMB Number: 1545-1946.

Type of Review: Extension (correction to notice published July 29, 2008, 73 FR 43976. Comments on this collection should be in before August 29, 2008).

Title: REG-102144-04 (Final) Dual Consolidated Losses.

Description: Section 1503(d) denies the use of the losses of one domestic corporation by another affiliated domestic corporation where the loss corporation is also subject to the income tax of a foreign country. This final regulation permits the domestic use of the loss if the loss has not been used in the foreign country provided a domestic use agreement is filed with the income tax return of the domestic affiliated group or domestic owner agreeing to recapture the loss into income upon a future foreign use of the loss.

Respondents: Businesses or other for-profit institutions.

Estimated Total Burden Hours: 2,740 hours.

OMB Number: 1545-1375.

Type of Review: Extension.

Title: IA-5-92 (Final) Carryover of Passive Activity Losses and Credits and At Risk Losses to Bankruptcy Estates of Individuals.

Description: These regulations provide for a joint election to have the regulations apply to certain bankruptcy cases. In a chapter 7 case, the written consent of the trustee must be obtained. In chapter 11 case, the election must be in the reorganization plan or in a court order.

Respondents: Individuals or households.

Estimated Total Burden Hours: 100 hours.

OMB Number: 1545-0922.

Type of Review: Extension.

Title: Form 8329, Lender's Information Return for Mortgage Credit Certificates (MCCs); Form 8330, Issuer's Quarterly Information Return for Mortgage Credit Certificates (MCCs).

Forms: 8329, 8330.

Description: Form 8329 is used by lending institutions and Form 8330 is used by state and local governments to report on mortgage credit certificates (MCCs) authorized under IRC Section 25. IRS matches the information supplied by lenders and issuers to ensure that the credit is computed properly.

Respondents: Businesses or other for-profit institutions.

Estimated Total Burden Hours: 73,720 hours.

OMB Number: 1545-1655.

Type of Review: Extension.

Title: REG-121946-98 (Final) Private Foundation Disclosure Rules.

Description: The collections of information in section 301.6104(d)-1, 301.6104 (d)-2 and 301.6104(d)-3 are necessary so that private foundations can make copies of their applications for tax-exemption and annual information returns available to the public.

Respondents: Not-for-profit institutions.

Estimated Total Burden Hours: 32,596 hours.

OMB Number: 1545-1633.

Type of Review: Extension.

Title: REG-209121-89 (Final) Certain Asset Transfers to a Tax-Exempt Entity.

Description: The written representation requested from a tax-exempt entity in regulations section 1.337(d)-4(b)(1)(A) concerns its plans to use assets received from a taxable corporation in a taxable unrelated trade or business. The taxable corporation is not taxable on gain if the assets are used in a taxable unrelated trade or business.

Respondents: Not-for-profit institutions.

Estimated Total Burden Hours: 125 hours.

OMB Number: 1545-1485.

Type of Review: Extension.

Title: PS-4-96 (Final) Sale of Residence From Qualified Personal Residence Trust.

Description: Internal Revenue Code section 2702(a)(3) provides special favorable valuation rules for valuing the gift of a personal residence trust. Regulation section 25.2702-5(a)(2) provides that if the trust fails to comply with the requirements contained in the regulations, the trust will be treated as complying if a statement is attached to the gift tax return reporting the gift stating that a proceeding has been commenced to reform the instrument to comply with the requirements of the regulations.

Respondents: Individuals or Households.

Estimated Total Burden Hours: 625 hours.

OMB Number: 1545-0723.

Type of Review: Extension.

Title: LR-115-72 (Final) Manufacturers Excise Taxes and Sporting Goods and Firearms and Other Administrative Provisions of Special Application to Manufacturers and Retailers Excise Taxes.

Description: Chapters 31 & 32 of the Internal Revenue Code impose excise taxes on the sale or use of certain articles. Section 6416 allows a credit or refund of the tax to manufacturers in certain cases. Sections 6420, 6421, and 6427 allow credits or refunds of the tax to certain users of the articles.

Respondents: Businesses and other for-profit institutions.

Estimated Total Burden Hours: 475,000 hours.

OMB Number: 1545-1496.

Type of Review: Extension.

Title: REG-209673-93 Mark to Market for Dealers in Securities(TD 8700 (final)).

Description: Under section1.475(b)-4, the information required to be recorded is required by the IRS to determine whether exemption from mark-to-market treatment is properly claimed, and will be used to make that determination upon audit of taxpayer's books and records. Also, under section 1.475(c)-1(a)(3)(iii), the information is necessary for the Service to determine whether a consolidated group has elected to disregard inter-member transactions in determining a member's status as a dealer in securities.

Respondents: Businesses or other for-profit institutions.

Estimated Total Burden Hours: 2,950 hours.

OMB Number: 1545-1910.

Type of Review: Extension.

Title: Information Return of U.S. Persons With Respect to Foreign Disregarded Entities (Form 8858); and Transactions Between Foreign Disregarded Entity of a Foreign Tax Owner and the Filer.

Form: 8858.

Description: Form 8858 and Schedule M (Form 8858) are used by certain U.S. persons that own a foreign disregarded entity (FDE) directly or, in certain circumstances, indirectly or constructively.

Respondents: Businesses or other for-profit institutions.

Estimated Total Burden Hours: 1,832,500 hours.

OMB Number: 1545-1792.

Type of Review: Extension.

Title: REG-164754-01 (FINAL) Split-Dollar Life Insurance Arrangements.

Description: The proposed regulations provide guidance for loans made pursuant to a split-dollar life insurance arrangement. To obtain a particular treatment under the regulations for certain split-dollar loans, the parties to the loan must make a written representation, which must be kept as part of their books and records and a copy filed with their federal income tax returns. In addition, if a split-dollar loan provides for contingent payments, the lender must produce a projected payment schedule for the loan and give the borrower a copy of the schedule. This schedule is used by parties to compute their interest accruals and any imputed transfers for tax purposes.

Respondents: Businesses or other for-profit institutions.

Estimated Total Burden Hours: 32,500 hours.

OMB Number: 1545-1139.

Type of Review: Extension.

Title: PS-264-82 (Final) Adjustments to Basis of Stock and Indebtedness to Shareholders of S Corporations and Treatment of Distributions by S Corporations to Shareholders; REG-144859-04—Section 1367.

Description: The regulations provide the procedures and the statements to be filed by S corporations for making the election provided under section 1368, and by shareholders who choose to reorder items that decrease their basis. Statements required to be filled will be used to verify that taxpayers are complying with the requirements imposed by Congress.

Respondents: Businesses or other for-profit institutions.

Estimated Total Burden Hours: 450 hours.

OMB Number: 1545-1381.

Type of Review: Extension.

Title: CO-49-88 (Final) Limitations on Corporate Net Operating Loss.

Description: This regulation provides rules for the allocation of a loss corporation's taxable income or net operating loss between the periods before and after an ownership change under section 382 of the Code, including an election to make the allocation based on a closing of the books as of the change date.

Respondents: Businesses and other for-profit institutions.

Estimated Total Burden Hours: 200 hours.

OMB Number: 1545-1763.

Type of Review: Revision.

Title: Direct Deposit of Refund of $1 Million or more.

Form: 8302.

Description: This form is used to request a deposit of a tax refund of $1 million or more directly into an account at any U.S. bank or other financial institution.

Respondents: Businesses and other for-profit institutions.

Estimated Total Burden Hours: 1,088 hours.

OMB Number: 1545-0879.

Type of Review: Extension.

Title: IA-195-78 (Final) Certain Returned Magazines, Paperbacks or Records

Description: The regulations provide rules relating to an exclusion from gross income for certain returned merchandise. The regulations provide that in addition to physical return of the merchandise, a written statement listing certain information may constitute evidence of the return. Taxpayers who receive physical evidence of the return may, in lieu of retaining physical evidence, retain documentary evidence of the return. Taxpayers in the trade or business of selling magazines, paperbacks, or records, who elect to use a certain method of accounting, are affected.

Respondents: Businesses and other for-profit institutions.

Estimated Total Burden Hours: 8,125 hours.

OMB Number: 1545-1921.

Type of Review: Extension.

Title: Continuation Sheet for Item #16 (Additional Information) OF-306, Declaration for Federal Employment.

Form: 12114.

Description: Form 12114 is used as a continuation to the OF-306 to provide additional space for capturing additional information.

Respondents: Individuals or households.

Estimated Total Burden Hours: 6,203 hours.

OMB Number: 1545-0094.

Type of Review: Revision.

Title: U.S. Information Return-Trust Accumulation of Charitable Amounts.

Form: 1041-A.

Description: Form 1041-A is used to report the information required in 26 U.S.C. 6034 concerning accumulation and distribution of charitable amounts. The data is used to verify that amounts for which a charitable deduction was allowed are used for charitable purposes.

Respondents: Businesses or other for-profit institutions.

Estimated Total Burden Hours: 4,396,854 hours.

OMB Number: 1545-1918.

Type of Review: Extension.

Title: Supplement to OF-612, Optional Application for Federal Employment.

Form: 12885.

Description: Form 12885 is used as a supplement to the OF-612 to provide additional space for capturing work history.

Respondents: Businesses or other for-profit institutions.

Estimated Total Burden Hours: 12,406 hours.

Clearance Officer:

Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-19815 Filed 8-26-08; 8:45 am]

BILLING CODE 4830-01-P